GENERAL SERVICES ADMINISTRATION

[Notice-PBS-2020-10; Docket No. 2020-0002; Sequence No. 39]

Notice of Intent To Prepare an Environmental Assessment for the Lease and Operation of a Community Based Outpatient Clinic

AGENCY: Office of Public Buildings Service (PBS); General Services Administration, (GSA).

ACTION: Notice of Intent.

SUMMARY: Pursuant to the requirements of the National Environmental Policy Act of 1969 (NEPA), the Council on Environmental Quality Regulations, and the GSA PBS NEPA Desk Guide, GSA is issuing this notice to advise the public that an Environmental Assessment (EA) will be prepared for the lease and operation of a Community Based Outpatient Clinic (CBOC) for the Department of Veterans Affairs (VA) in the Hampton Roads region of Virginia.

DATES: Agencies and the public are encouraged to provide written comments regarding the scope of the EA. Comments must be received on or before November 18, 2020.

ADDRESSES: Submit comments in response to Notice-PBS-2020-10, by any of the following methods:

• Mail: General Services Administration, Portfolio Division ATTN: VA Hampton Roads CBOC. General Services Administration, 100 South Independence Mall W, Philadelphia, PA 19106, Room 2191.

• Email: VA.HamptonRoads.CBOC@gsa.gov.

FOR FURTHER INFORMATION CONTACT: General Services Administration, Mid-Atlantic Region, ATTN: Todd Glodek, PHONE: (215) 606-1757, EMAIL: VA.HamptonRoads.CBOC@gsa.gov.

SUPPLEMENTARY INFORMATION:

Background

The General Services Administration intends to prepare an Environmental Assessment (EA) to analyze the potential impacts resulting from the development of a new leased Community-Based Outpatient Clinic (CBOC) in the Hampton Roads region of southeast Virginia. The new site is intended to support the growing veteran population in the Hampton Roads region by providing increased levels of health and wellness services. While an existing 13,000 square foot CBOC is in operation in Virginia Beach, Virginia, this site cannot support necessary expansion to support increased levels of health care service.

The Proposed Action would consist of acquiring property to construct a stand-alone building to provide primary care, mental health, and eye clinic services. A selected developer would be responsible for acquiring the selected site, constructing the proposed facility, and assuming ownership and maintenance of the site.

Alternatives Under Consideration

The EA will consider Action Alternatives for the proposed CBOC on available sites offered by developers within the Hampton Roads region as well as the No Action Alternative. The Action Alternatives will analyze the development and operation of the CBOC. The CBOC would be developed to support identified program requirements for approximately 186,200 square feet within two contiguous floors and 1,050 parking spaces within a contiguous site. Under the No Action Alternative, no CBOC would be developed.

Scoping Process

Scoping will be accomplished through public notifications in the Virginian Pilot and direct mail correspondence to appropriate federal, state, and local agencies; surrounding property owners; and private organizations and citizens who have previously expressed or are known to have an interest in the Project.

The primary purpose of the scoping process is for the public to assist GSA in determining the scope and content of the environmental analysis.

Dated: October 9, 2020.
John Calhoun,
Director, Portfolio Management Division (3PT).

[FR Doc. 2020-23038 Filed 10-16-20; 8:45 am]

BILLING CODE 6820-89-P